DEPARTMENT OF TRANSPORTATION

Maritime Administration

46 CFR Parts 232, 281, 287, 295, 298, 310, 355, 380 and 390

[Docket Number: MARAD-2003-16238]

RIN 2133-AB64

Electronic Options for Transmitting Certain Information Collection Responses to MARAD

AGENCY: Maritime Administration, Department of Transportation.

ACTION: Final rule.

SUMMARY: The Maritime Administration (MARAD) is publishing this final rule to offer electronic submission options to respondents for submission of information that is collected from them under the approved information collections identified in this final rule. These information collections are needed by MARAD in order to conduct business between MARAD and respondents. This action is part of MARAD's implementation of the Government Paperwork Elimination Act (GPEA).

DATES: This final rule is effective October 19, 2004.

FOR FURTHER INFORMATION CONTACT: Richard Weaver, Director, Office of Management and Information Services, Maritime Administration, MAR-310, Room 7301, 400 Seventh Street, SW., Washington, DC 20590; telephone: (202) 366-2811; FAX: (202) 366-3889, or e-mail: richard.weaver@marad.dot.gov.

SUPPLEMENTARY INFORMATION: MARAD recognizes that information technology and the Internet are transforming the ways we communicate with our customers. Also, expanding E-Government is one of five government-wide initiatives in the President's Management Agenda and includes implementation of the Government Paperwork Elimination Act (GPEA). Under the E-Government initiative, agencies are to offer the option for respondents to transmit by electronic means information collections that are required by those agencies whenever such transmission is practicable.

On November 5, 2003, MARAD published an interim final rule in the Federal Register (68 FR 62535, November 5, 2003) requesting comments regarding the practicability of using electronic submissions for certain information collections prescribed in 46 CFR Parts 200-499. No comments were received on the interim final rule.

In the interim final rule, a mistake was made in the amendatory language that inadvertently deleted several paragraphs from 46 CFR 281.1 (under paragraph designation (f)). This final rule corrects the error by adding the deleted paragraphs back to section 281.1.

Regulatory Analyses and Notices

Executive Order 12866 and DOT Regulatory Policies and Procedures

This final rule is not considered a significant regulatory action under section 3(f) of Executive Order 12866 and, therefore, was not reviewed by the Office of Management and Budget. This final rule is not likely to result in an annual effect on the economy of $100 million or more. This final rule is also not significant under the Regulatory Policies and Procedures of the Department of Transportation (44 FR 11034, February 26, 1979). The costs and overall economic impact associated with this rulemaking are considered to be so minimal that no further analysis is necessary. This final rule is intended only to allow timely as well as fair and efficient employment of electronic transmission technologies for the information collections identified in this rule.

Administrative Procedure Act

The Administrative Procedure Act (5 U.S.C. 553) provides an exception to notice and comment procedures when they are unnecessary or contrary to the public interest. MARAD found good cause under 5 U.S.C. 553(b)(3)(B) for not providing notice and comment when it published its interim final rule since it only implements the Government Paperwork Elimination Act and merely allows the regulated public an opportunity to submit certain required information via electronic means. Under 5 U.S.C. 553(d)(3), MARAD finds that, for the same reasons listed above, good cause exists for making this rule effective less than 30 days after publication in the Federal Register.

Regulatory Flexibility Act

The Maritime Administrator certifies that this final rule will not have a significant economic impact on a substantial number of small entities. This final rule only provides the electronic option for transmitting responses to MARAD for the information collections identified in the final rule.

Federalism

We have analyzed this final rule in accordance with the principles and criteria contained in Executive Order 13132 (Federalism) and have determined that it does not have sufficient federalism implications to warrant the preparation of a federalism summary impact statement. These regulations have no substantial effect on the States, the current Federal-State relationship, or the current distribution of power and responsibilities among local officials. Therefore, consultation with State and local officials is not necessary.

Executive Order 13175

MARAD does not believe that this final rule will significantly or uniquely affect the communities of Indian tribal governments when analyzed under the principles and criteria contained in Executive Order 13175 (Consultation and Coordination with Indian Tribal Governments). Therefore, the funding and consultation requirements of this Executive Order do not apply.

Environmental Impact Statement

We have analyzed this final rule for purposes of compliance with the National Environmental Policy Act of 1969 (42 U.S.C. 4321 et seq.) and have concluded that under the categorical exclusions in section 4.05 of Maritime Administrative Order (MAO) 600-1, “Procedures for Considering Environmental Impacts,” 50 FR 11606 (March 22, 1985), neither the preparation of an Environmental Assessment, an Environmental Impact Statement, nor a Finding of No Significant Impact for this final rule is required. This final rule involves administrative and procedural regulations that have no environmental impact.

Unfunded Mandates Reform Act of 1995

This final rule does not impose an unfunded mandate under the Unfunded Mandates Reform Act of 1995. It does not result in costs of $100 million or more, in the aggregate, to any of the following: State, local, or Native American tribal governments, or the private sector. This final rule is the least burdensome alternative that achieves this objective of U.S. policy.

Paperwork Reduction Act

This final rule contains information collection requirements covered by OMB approval numbers identified in the final rule under 5 CFR Part 1320, pursuant to the Paperwork Reduction Act of 1995 (44 U.S.C. 3501 et seq.).

List of Subjects

46 CFR Part 232

Maritime carriers, Reporting and recordkeeping requirements, Uniform System of Accounts.

46 CFR Part 281

Administrative practice and procedure, Grant programs—transportation, Maritime carriers, Reporting and recordkeeping requirements.

46 CFR Part 287

Fishing vessels, Income taxes, Investments, Maritime carriers, Reporting and recordkeeping requirements, Vessels.

46 CFR Part 295

Maritime carriers, Reporting and recordkeeping requirements.

46 CFR Part 298

Loan programs—transportation, Maritime carriers, Reporting and recordkeeping requirements.

46 CFR Part 310

Federal Aid Programs, Reporting and recordkeeping requirements, Schools, Seamen.

46 CFR Part 355

Citizenship and naturalization, Maritime carriers, Reporting and recordkeeping requirements.

46 CFR Part 380

Administrative practice and procedure, Grant programs—transportation, Maritime carriers, Reporting and recordkeeping requirements.

46 CFR Part 390

Income taxes, Investments, Maritime carriers, Reporting and recordkeeping requirements.

Accordingly, 46 CFR Chapter II is amended as follows:

PART 232—UNIFORM FINANCIAL REPORTING REQUIREMENTS

1. The authority citation for part 232 continues to read as follows:

Authority: Sec. 204(b), Merchant Marine Act, 1936, as amended (46 App U.S.C. 1114(b)); 49 CFR 1.66.

2. Amend § 232.2 by revising paragraph (d) to read as follows:

§ 232.2 General instructions.

* * * * *

(d) Submission of questions. (1) A contractor may submit in writing, or by electronic options (such as facsimile and Internet), if practicable, any question involving the interpretation of any provision of this part for consideration and decision to the Director, Office of Financial and Rate Approvals, for the Maritime Security Program, or Director, Office of Ship Financing, for the Maritime Loan Guarantee Program (Title XI), Maritime Administration, Department of Transportation, 400 Seventh Street, SW., Washington, DC 20590. Appeals from such interpretation will be in accordance with the interpretation letter.

(2) A contractor who has a question of financial accounting or reporting procedure pending before the Maritime Administration at the time a financial report is due shall file the report in accordance with established scheduled dates. The contractor shall include in the report a footnote disclosure that adequately describes the question pending, the manner of presentation in the report, and the relative impact on the balance sheet and income statement, respectively.

* * * * *

3. Section 232.6 is amended by revising paragraphs (a) and (b) to read as follows:

§ 232.6 Financial report filing requirement.

(a) Reporting Frequency and Due Dates. The contractor shall file a semiannual financial report and an annual financial report, in the format referred to in § 232.1(a)(2), which MARAD shall make available to the contractor. This Form MA-172 (Revised) shall be prepared in accordance with generally accepted accounting principles and modified to the extent necessary to comply with this regulation. The annual financial report shall be reconciled to the financial statements audited by independent certified public accountants (CPAs) licensed to practice by a state or other political subdivision of the United States, or licensed public accountants licensed to practice by regulatory authority or other political subdivision of the United States on or before December 31, 1970. Both the annual and semiannual financial reports shall be due within 120 days after the close of the contractor's annual or semiannual accounting period. If certified (CPA) statements are not available when required, company certified statements are to be submitted within the due dates, and the CPA statements shall be submitted as soon as available. The respondent may, in place of any Schedule(s) contained in the Form MA-172, submit a schedule or schedules from its audited financial statements, or a computer print-out or schedule, consistent with the instructions provided in the MARAD formats. MARAD will accept electronic options (such as facsimile and Internet) for transmission of required information to MARAD, if practicable.

(b) Certification. Annual and semiannual reports shall be approved by the Respondent and Official of Respondent whom MARAD may contact regarding the report in the reporting formats prescribed as the MA-172 submission.

* * * * *

PART 281—INFORMATION AND PROCEDURE REQUIRED UNDER LINER OPERATING-DIFFERENTIAL SUBSIDY AGREEMENTS

4. The authority citation for part 281 continues to read as follows:

Authority: Sec. 204, 49 Stat. 1987, as amended; 46 U.S.C. 1114. Interpret or apply sec. 606, 49 Stat. 2004, as amended; 46 U.S.C. 1176.

5. Section 281.1 is amended by revising paragraph (f) to read as follows:

§ 281.1 Information and procedure required under liner operating-differential subsidy agreements.

* * * * *

(f) Current financial reports. Each operator shall prepare current financial reports as specified in this paragraph and shall submit one copy each to the appropriate Region Director of the Maritime Administration and three copies each to the Director, Office of Financial and Rate Approvals, Maritime Administration, Washington, DC 20590. MARAD will accept electronic options (such as facsimile and Internet) for transmission of required information to MARAD, if practicable.

(1) Internal management reports. Each month the operator shall submit copies of such portions of its internal management reports that provide an estimate of its current operating results.

(2) Quarterly balance sheets. The operator shall prepare balance sheets as of March 31, June 30, and September 30 of each calendar year in conformity with section 282.6(A) of the Uniform System of Accounts (Part 282 of this chapter) and shall submit each as soon as practicable but not later than 45 days after the end of the respective quarter.

(3) Quarterly and cumulative income statements. The operator shall prepare income statements for the quarterly periods January 1, to March 31, April 1 to June 30, and July 1 to September 30, and for cumulative periods from January 1 to the end of the second and third quarters of each calendar year in conformity with section 282.6(B) of the Uniform System of Accounts (Part 282 of this chapter) and shall submit each statement as soon as practicable but not later than 45 days after the end of the respective quarter.

(4) Annual financial report. The operator shall submit Maritime Administration Form 172 for each calendar year by March 31 of the succeeding year. If the operator is unable to submit Form 172 by March 31 of the succeeding year he shall, prior to such March 31, request an extension for the filing of Form 172 from the Director, Office of Financial and Rate Approvals and shall submit by such March 31:

(i) A balance sheet for the year ending on December 31, in conformity with section 282.6(A) of the Uniform Systems of Accounts; and

(ii) An income statement for the quarterly period October 1 to December 31 and an income statement for the year ending on December 31, in conformity with section 282.6(B) of the Uniform System of Accounts.

(5) Vessel performance reports. Vessel performance reports shall be prepared for the period January 1 to March 31 of each calendar year, and from January 1 to the end of each succeeding quarter of the calendar year, in the form provided in Exhibit A of paragraph (f)(7) of this section and consistent with the allocation bases provided in paragraph (f)(6) of this section and shall include:

(i) A grand summary of all terminated voyage results for the reporting period including any idle status period occurring during the reporting period and any additional charges or credits from prior terminated periods;

(ii) Summaries of each service by vessel type, as indicated in Exhibit (D) of paragraph (7) of this section, as of December 31 of each year;

(iii) Individual reports by vessel for each idle status period occurring during any reporting period.

(A) Vessel performance reports shall be submitted with the quarterly balance sheets and income statements required under paragraphs (f)(2) and (3) of this section and must be reconciled with voyage revenue and expense from all operations as reported in the income statement.

(B) “Depreciation Vessels” is an example of a reconciling item. Vessel performance reports which are properly prepared and filed will satisfy the reporting requirements for sub-schedules 3002 of the Maritime Administration Form 172.

(6) Allocation bases. The allocation bases to be applied in preparation of vessel performance reports required by paragraph (f)(5) of this section are as follows:

(i) Terminal expenses. Terminal expenses defined by accounts 855 through 866 of the Uniform System of Accounts (§ 282.3(E) of this chapter), including depreciation accounts, for each terminal shall be allocated between terminated and unterminated voyages on the basis of freight payable tons loaded and discharged on each vessel and voyage during the reporting period, except that in the case of terminals handling only one cargo carriage technology type (CCTT), which can be expressed in common units such as twenty-foot equivalent container units (TEU's) or the number of individual barges, such common unit may be used for allocating terminal expenses by vessel and voyage for each terminal, as shown in Exhibit B of paragraph (f)(7) of this section.

(ii) Container/barge expense—

(A) Allocation of expense. Container/barge expense defined by accounts 867 through 899 of the Uniform System of Accounts (§ 282.3(F) of this chapter), including depreciation accounts, shall be segregated between container and barge cost pools. Accounts 879, 880, and 894 shall be allocated between container and barge cost pools on an allocation basis developed by the operator.

(B) Allocation of cost pools. Container and barge cost pools shall be allocated among vessels by voyage and idle status for each vessel in the same ratio that the total container or barge capacity of each vessel multiplied by vessel days bears to the total container or barge capacity of the operator's entire fleet multiplied by vessel days. Total container or barge capacity of a vessel means the total container or barge capacity of the vessel, expressed in TEU's for containers and single units for barges, multiplied by the total number of containers or barges acquired for each available container or barge slot on the vessel. Vessel days means the number of days in the period for which an allocation of cost pools is being made. Containers and barges purchased by an operator for utilization in a particular trade route shall be allocated by vessel capacity among the vessels in the trade route for which they were purchased. See Exhibit C of paragraph (f)(7) of this section.

(iii) Administrative and general expenses. Administrative and general expenses defined by accounts 901 through 979 of the Uniform System of Accounts (§ 282.3(G) of this chapter) shall be allocated to terminated voyages for each vessel type by service or for each vessel by voyage, as required by paragraph (f)(5) of this section, based on the ratio that total terminated voyage operating expenses (accounts 701-773 of the Uniform System of Accounts) plus total terminated voyage operating revenue (accounts 601-624 of the Uniform System of Accounts) for each bears to the total terminated voyage operating expense plus total terminated voyage operating revenue for the period, except that account 945 (advertising passengers) will be allocated directly to passenger vessels based on passengers carried, account 955 (contributions to pools) may be allocated as an administrative and general expense or directly to vessel and voyage based on pool statements, and that portion of accounts 960 and 961 (interest expense) representing interest on vessels shall be allocated to vessels and voyages in the same ratio that depreciation is distributed among all vessels in the fleet. In addition to the above exceptions, significant interest expenses related to purchases of containers and barges should be charged directly to container and barge pools prior to allocation of the container and barge pools.

(7) Exhibits.

A. Vessel performance report.¹

¹ Exhibit A filed as part of the original document.

B. Sample allocation of terminal expenses by vessel and voyage.

C. Sample allocation of container/barge expenses by vessel and voyage.

D. Examples of vessel types currently operated.

* * * * *

PART 287—ESTABLISHMENT OF CONSTRUCTION RESERVE FUNDS

6. The authority citation for part 287 continues to read as follows:

Authority: Secs. 204, 511, 49 Stat. 1987, as amended, 54 Stat. 1106, as amended; 46 U.S.C. 1114, 1161.

7. Section 287.4 is amended by revising paragraph (a) to read as follows:

§ 287.4 Application to establish fund.

(a) Any person claiming to be entitled to the benefits of section 511 of the Act may make application, in writing, to the Administration for permission to establish a construction reserve fund. The original application shall be executed and verified by the taxpayer, or if the taxpayer is a corporation, by one of its principal officers, in triplicate, and shall be accompanied by eight conformed copies when filed with the Administration. MARAD will accept electronic options (such as facsimile and Internet) for transmission of required information to MARAD, if practicable.

* * * * *

PART 295—MARITIME SECURITY PROGRAM (MSP)

8. The authority citation for part 295 continues to read as follows:

Authority: 46 App. U.S.C. 1171 et seq., 46 App. U.S.C. 1114 (b), 49 CFR 1.66.

9. Section 295.11 is amended by revising paragraph (b) introductory text to read as follows:

§ 295.11 Applications.

* * * * *

(b) Action by the Applicant. Applicants for MSP Payments shall submit information on the following (Note: MARAD will accept electronic options (such as facsimile and Internet) for transmission of required information to MARAD, if practicable):

* * * * *

10. Section 295.23 is amended by revising the introductory text to read as follows:

§ 295.23 Reporting requirements.

The Contractor shall submit to the Director, Office of Financial and Rate Approvals, Maritime Administration, 400 Seventh St., SW., Washington, DC 20590, one of the following reports, including management footnotes where necessary to make a fair financial presentation [Note: MARAD will accept electronic options (such as facsimile and Internet) for transmission of required information to MARAD, if practicable.]:

* * * * *

PART 298—OBLIGATION GUARANTEES

11. The authority citation for part 298 continues to read as follows:

Authority: 46 App. U.S.C. 1114(b), 1271 et seq.; 49 CFR 1.66.

12. Section 298.3 is amended by revising paragraph (a)(1) to read as follows:

§ 298.3 Applications.

(a) * * *

(1) Complete Form MA-163 and send it to the Secretary, Maritime Administration, U.S. Department of Transportation, 400 Seventh Street, SW., Washington, DC 20590. [Note: MARAD will accept electronic options (such as facsimile and Internet) for transmission of required information (excluding closing documents and documents submitted in connection with defaults) to MARAD, if practicable.]

* * * * *

13. Section 298.13 is amended by revising paragraph (c)(2) introductory text to read as follows:

§ 298.13 Financial requirements.

* * * * *

(c) * * *

(2) Financial Information. You must provide us with financial statements, prepared in accordance with U.S. generally accepted accounting principles (GAAP), and include notes that explain the basis for arriving at the figures except that for Eligible Export Vessels, your financial statements must be in accordance with GAAP if formed in the U.S., or reconciled to GAAP if formed in a foreign country unless a satisfactory justification is provided explaining the inability to reconcile. The financial statements must include the following [Note: MARAD will accept electronic options (such as facsimile and Internet) for transmission of required information to MARAD, if practicable.]:

* * * * *

PART 310—MERCHANT MARINE TRAINING

14. The authority citation for part 310 continues to read as follows:

Authority: 46 App. U.S.C. 1295; 49 CFR 1.66.

15. Section 310.57 is amended by revising paragraph (a) to read as follows:

§ 310.57 Application and selection of midshipmen.

(a) Application. All candidates shall submit an application for admission to the Academy's Admissions Office. Prospective candidates also should submit an application, but are not considered official candidates until their nominations are received. Candidates shall submit with their applications an official transcript and personality record from the candidate's high school and, if applicable, such records from any school attended after high school graduation. Application forms are available upon request by writing to the Admissions Office at the Academy. MARAD will accept electronic options (such as facsimile and Internet) for transmission of only Part I of required information to MARAD, if practicable.

* * * * *

PART 355—REQUIREMENTS FOR ESTABLISHING UNITED STATES CITIZENSHIP

16. The authority citation for part 355 continues to read as follows:

Authority: Secs. 2, 204, 39 Stat. 729, as amended, 49 Stat. 1987, as amended, 73 Stat. 597, 46 U.S.C. 802, 803, 1114, 11.

17. Section 355.1 is amended by revising paragraphs (b) and (c) to read as follows:

§ 355.1 General.

* * * * *

(b) As used in this part, the term “primary corporation” includes, but not exclusively, an applicant, for, or one already receiving, benefits under the Merchant Marine Act, 1936, as amended, as well as participants in certain transactions, such as banking institutions designated as lenders, mortgagees, and trustees pursuant to Public Law 89-346 (73 Stat. 597), as amended.

(c) To satisfy the statutory requirements, an Affidavit of U.S. Citizenship of a primary corporation by one of its officers duly authorized to execute such Affidavit, should be submitted. This affidavit should contain facts from which the corporation's citizenship can be determined. MARAD will accept electronic options (such as facsimile and Internet) for transmission of required information to MARAD, if practicable.

PART 380—PROCEDURES

18. The authority citation for part 380 continues to read as follows:

Authority: Sec. 204, 49 Stat. 1987, as amended; 46 U.S.C. 1114.

19. Section 380.22 is amended by revising paragraphs (b) and (c) to read as follows:

§ 380.22 Responsibility.

* * * * *

(b) With respect to books, records, and accounts which, subject to the provision of paragraph (a) of this section, are to be disposed of upon the expiration of the minimum retention period prescribed herein, there shall be filed with the Records Officer, Maritime Administration, Washington, DC, 20590, a written notification, at least thirty (30) days prior to the contemplated, disposal requesting permission to dispose of records. MARAD will accept electronic options (such as facsimile and Internet) for transmission of required information to MARAD, if practicable. The request shall be in such form that the books, records, and accounts can be readily identified. Within thirty (30) days after receipt of such notification the Records Officer shall grant approval for disposal, or advise the necessity for continued retention of all or any specified portion thereof. Failure of the Record Officer to reply within the thirty (30) days period following receipt by the Administration of such request shall constitute approval.

(c) Applications for special authority to dispose of certain books, records, and accounts prior to the expiration of prescribed minimum retention periods, and any inquiries as to the interpretation or applicability of this subpart to specific items shall be submitted to the Records Officer, Maritime Administration. MARAD will accept written or electronic options (such as facsimile and Internet) for transmission of required information to MARAD, if practicable. The applicant shall describe in detail the items to be disposed of and explain why continued retention is unnecessary.

20. Section 380.23 is revised to read as follows:

§ 380.23 Supervision of records.

(a) Contractors and others subject to the provisions of this subpart shall designate, through formal action, the official company position by title, the incumbent of which shall be responsible for supervision of its document retention and disposal program. Immediately upon designation of the position, a copy of the formal action and name of the incumbent shall be filed with the Records Officer, Maritime Administration. MARAD will accept written or electronic options (such as facsimile and Internet) for transmission of required information, if practicable.

(b) The person in charge of the retention and disposal program shall maintain a record of all books, records, and accounts held in storage, and in such form that the items and their location are readily identifiable. A copy of the written, or by electronic options (such as facsimile and Internet), if practicable, notification requesting permission to dispose of any books, records, and accounts, and the original approval from the Administration, as required in § 380.22(b), together with a statement showing date, place and method of disposal will suffice as a record of such disposed items. These retention and disposal records shall be available at all times for inspection by Administration officials and auditors.

PART 390—CAPITAL CONSTRUCTION FUND

21. The authority citation for part 390 continues to read as follows:

Authority: Sections 204(b) and 607, Merchant Marine Act, 1936, as amended (46 App. U.S.C. 1114(b) and 1177); 49 CFR 1.66.

22. Section 390.2 is amended by revising paragraph (a)(1) to read as follows:

§ 390.2 Application for an agreement.

(a) In general—(1) Application instructions. The Maritime Administrator has adopted instructions for making application for an agreement. These instructions are contained in appendix I to this part. MARAD will accept electronic options (such as facsimile and Internet) for transmission of required information to MARAD, if practicable.

* * * * *

By Order of the Maritime Administrator.
Dated: October 13, 2004.
Joel C. Richard,
Secretary, Maritime Administration.

[FR Doc. 04-23361 Filed 10-18-04; 8:45 am]

BILLING CODE 4910-81-P